DEPARTMENT OF THE INTERIOR

National Park Service

Denali National Park and Preserve Aircraft Overflights Advisory Council

AGENCY: National Park Service, Interior.

ACTION: Notice of renewal.

SUMMARY: The Secretary of the Interior is giving notice of the renewal of the Denali National Park and Preserve Aircraft Overflights Advisory Council to offer recommendations, alternatives and possible solutions to management of off-road vehicles at Big Cypress National Preserve.

FOR FURTHER INFORMATION CONTACT: Miriam Valentine, Denali Park and Preserve, 240 W. 5th Avenue, Anchorage, Alaska 99501, 907-644-3611.

SUPPLEMENTARY INFORMATION: The Denali National Park and Preserve Aircraft Overflights Advisory Council has been established in accordance with the Denali National Park and Preserve's 2006 Backcountry Management Plan and EIS. The plan concluded that air travel is an important means of access for backcountry users, and that scenic air tours are an important means for other park visitors to access and enjoy Mount McKinley and adjoining scenic peaks and glaciers. However, the cumulative impact of these tours, plus the additional aircraft traffic, must be mitigated to protect park resource values and the quality of the visitor experience. The plan calls for an aircraft overflights advisory group that will develop voluntary measures for assuring the safety of passengers, pilots, and mountaineers, and for achieving standards that represent desired future resource conditions at Denali. The National Park Service needs the advice of this group to develop effective mitigation measures that will be acceptable to stakeholders. The Council is composed of individuals that represent a broad range of interests, including air taxi operators, commercial aviation, local landowners, the State of Alaska, the Federal Aviation Administration, climbers and other park users, and the environmental community.

Certification: I hereby certify that the renewal of the Denali National Park and Preserve Aircraft Overflights Advisory Council is necessary and in the public interest in connection with the performance of duties imposed on the Department of the Interior by the Act of August 25, 1916, (39 Stat. 535), as amended, 16 U.S.C. 1 et seq., and other statutes relating to the administration of the National Park System.

Dated: November 25, 2009.
Ken Salazar,
Secretary of the Interior.

[FR Doc. 2010-231 Filed 1-8-10; 8:45 am]

BILLING CODE 4310-PF-P